DEPARTMENT OF HEALTH AND HUMAN SERVICES

Food and Drug Administration

[Docket No. FDA-2013-N-0001]

Third Annual Food and Drug Administration Health Professional Organizations Conference

AGENCY: Food and Drug Administration, HHS.

ACTION: Notice of conference.

The Food and Drug Administration (FDA) is announcing a conference for representatives of Health Professional Organizations. Topics on the agenda include FDA Updates, an overview of FDA's Network of Experts (public/private partnerships), and a FDA Town Hall. The FDA Town Hall will feature FDA senior executives including Jeffrey Shuren, M.D., J.D., Director of the Center for Devices and Radiological Health; Douglas C. Throckmorton, M.D., Deputy Director for Regulatory Programs of the Center for Drug Evaluation and Research; and Michael R. Taylor, Deputy Commissioner for Foods and Veterinary Medicine.

Date and Time: The conference will be held on October 24, 2013, from 8 a.m. to 12 noon.

Location: The conference will be held at the White Oak Campus, 10903 New Hampshire Ave., Bldg. 31 Conference Center, the Great Room (Rm. 1503), Silver Spring, MD 20993-0002. Entrance for the public meeting participants (non-FDA employees) is through Building 1 where routine security check procedures will be performed. For parking and security information, please refer to http://www.fda.gov/AboutFDA/WorkingatFDA/BuildingsandFacilities/WhiteOakCampusInformation/ucm241740.htm.

Contact: Brenda Rose, Office of Special Health Issues, 10903 New Hampshire Ave., Silver Spring, MD 20993, Brenda.Rose@fda.hhs.gov, 301-796-8460.

Registration: Register at http://www.cvent.com/d/hcqym9/1Q. Please include the name and title of the person attending, the name of the organization, and email address. There is no registration fee for this conference. Early registration is suggested because space is limited.

SUPPLEMENTARY INFORMATION: The aim of the conference is to further the public health mission of the FDA through training, collaboration, and structured discussion between health professional organizations and FDA staff. The Office of Health and Constituent Affairs serves as a liaison between the FDA Centers and the public on matters that involve medical product safety.

Please indicate during your registration a question of greatest interest to you for the FDA Town Hall.

If you need special accommodations due to a disability, please contact Brenda Rose at Brenda.Rose@fda.hhs.gov at least 7 days in advance of the conference.

Dated: July 19, 2013.
Leslie Kux,
Assistant Commissioner for Policy.

[FR Doc. 2013-17769 Filed 7-23-13; 8:45 am]

BILLING CODE 4160-01-P